DEPARTMENT OF HEALTH AND HUMAN SERVICES

National Institutes of the Health

Part N, national Institutes of health, of the Statement of Organization, Functions, and Delegations of Authority for the Department of Health and human Services (40 FR 22859, May 27, 1975, as amended most recently and 65 FR 20477, April 2000, and redesignated from Part HN as Part N at 60 FR 56606, November 9, 1995) is amendment as set forth below to reflect the establishment of the Center on Minority Health and Health Disparities (NCMHD), National Institutes of Health. the Public health Service Act (42 U.S.C. 281 et seq.) as amended by P.L. 106-525, the Minority Health and Health Disparities research and Education Act of 2000, provides the authorities of the center and abolishes the Office of research on Minority Health (ORMH) within the Office of the Director, NIH. The functions and resources of the ORMH are transferred to the newly established NCMHD.

Section N-B, Organization and Functions, is amended as follows: (1) After the heading National Center for Complementary and Alternative Medicine (ND, formerly HND), insert the following:

National Center on Minority Health and Health Disparities (NE, formerly HNE), (1) Advises the NIH director and Institute and Center ((C) directors on the development of NIH-wide policy issues related to minority health disparities research, research on other health disparities, and related research training and serves as principal liaison with other agencies of the PHS, DHHS, and Federal Government; (2) develops, in consultation with the NIH Director, IC directors, and the advisory council, a comprehensive strategic plan that identifies and establishes objectives, priorities, budgets, and policy statement governing the conduct and support of all NIH minority health disparities research, research on other health disparities, and related research training activities; (3) evaluates NIH minority health disparities research programs and other health disparities research programs that are carried out by the ICs; (4) administers funds for the support of minority health disparities research and other health disparities research, through grant-making and through leveraging the programs of the ICs; (5) provides staff support to the NCMHD Advisory Council and tans-NIH coordination Committee for minority health disparities research and other health disparities research at NIH; (6) develops and maintains a Health Disparities Information (HDI) data base on intramural and extramural activities of relevance to the Center's mission and prepares special or recurring reports as needed; (7) develops culturally appropriate strategies to assure that the public is informed about various diseases and conditions that affect racial and ethnic minorities and other “health disparity populations” and issues and related NIH research activities and advances; (8) informs the scientific and medical communities and other Government agencies of NIH health disparities activities and involves them in efforts to expand and encourage minority health disparities research, research on other disparities, and related research training program; (9) promotes the growth and quality of minority health disparities research and research on other health disparities through improved resource allocation at the NIH, expanded collaboration among the NIH ICs and among academic institutions, improving the research infrastructure at minority serving institutions, and through the development of innovative programs such as a Centers of Excellence Program, a research endowment program, an extramural loan repayment program, and programs promoting Federal, State and local cooperation; (10) provides leadership in expanding the pool of experienced investigators in the areas of minority health disparities research and research on other health disparities; and (11) in consultation with the NIH Director, implements Title I of the Minority Health and Health Disparities Research and Education Act of 2000, as it relates to the NCMHD.

Office of the Director (NE1, formerly HNE1), (1) Plans, directs, coordinates, and evaluates the activities and programs of the NCMHD; (2) coordinates with the NIH Institutes and Centers and other Federal agencies on programs of relevance to the mission of the Center; (3) advises the NIH Director, the NIH Institutes and Centers, and others on matters relating to minority health disparities research, research on other health disparities, and related research training, including efforts to increase the participation of minority groups and subjects of clinical research; (4) plans and supervises the implementation and evaluation of administrative and management services and support to the programs and activities of the NCMHD; (5) directs and supervises the formulation, presentation, and execution of the Center's budget; (6) informs the scientific and medical communities and other Government agencies of NIH activities relevant to minority health disparities research and research on other health disparities and involves them in efforts to expand and encourage research and training programs in these areas.

Office of Finance and Administration (NE12, formerly HNE12). (1) Provides, secures, and negotiates regarding the resources and services needed for the operations of the Center, including the Office of the Director; (2) manages the Center's operational budget and performs a variety of management analysis functions; (3) assists in planning and formulating the Center's research budget and executes the budget; (4) implements a comprehensive program of personnel management services for the Center, within the authority delegated by the NIH Director; (5) provides leadership in the Center in the areas of computer information technology and in the use of computers as communication tools to include assisting in the development and monitoring of databases, in particular the Health Disparities Information (HDI) System, and monitors the development of the Center's website.

Office of Extramural Activities (NE13, formerly HNE13). (1) Provides staff support to the NCHMD Advisory Council, the congressionally authorized group that advises, assists, consults with, and make recommendations to the Center Director, and provides the second level of peer review of grant applications; (2) provides oversight for and/or coordinates scientific review activities with the staff of NCMHD programs and with the Center for Scientific Review, NIH and/or with offices of review within relevant NIH Institutes and Centers, as required; (3) provides policy direction and coordination for planning and executing initial scientific and technical reviews of applications for grants and contracts conducted within the Center, as required; (4) coordinates the identification and selection of qualified experts to serve on review committees and assists with the review of grant applications and contract proposals, as required; (5) serves as an information and coordination center for all grant applications and contract proposals pending review by the unit; (6) supervises the scientific review administrators for the initial scientific review of grant proposals reviewed within NCHMD; (7) maintains uniform policies and procedures governing technical review of grant applications and contract proposals within NCHMD; (8) provides administrative and technical support in the development, execution, and monitoring of grant and contract programs, as required; (9) provides oversight and direction for the grants management functions of the NCHMD; and (10) maintains liaison with grants and contracts management staffs in other Institutes and Centers, with central OD/NIH offices, grantees, and contractors.

Office of Communications and Public Liaison (NE14, formerly HNE14). (1) Disseminates information on scientific and policy developments related to the mission of the Center; (2) plans and implements a comprehensive information and communications program; (3) coordinates with the NIH Institutes and Centers on minority health disparities research and research on other health disparities for the purposes of serving as a clearinghouse and focal point for disseminating information on the goals and advances in these programs; (4) maintains liaison with the NIH Office of Communications and Public Liaison; (5) provides oversight for the maintenance of the Center's website; and (6) provides leadership and coordinates with the Division of Scientific Planning and Analysis on issues related to trans-NIH conferences and/or other conferences and workshops of relevance to the mission of the Center.

Office of Research Training and Capacity Building (NE15, formerly HNE15). (1) Provides leadership in implementing the trans-NIH strategic plan to improve the effectiveness of all NIH programs aimed at increasing minority participation in biomedical research; (2) develops and implements outreach and science education initiatives aimed at increasing the participating of underrepresented minorities in biomedical research; (3) develops and implements initiatives aimed at building health disparity research capacity at minority institutions, minority-serving institutions, and at designated centers of excellence; (4) develops and implements an extramural loan repayment program with a focus on expanding the cadre of clinical investigators engaged in minority health disparities research and research on other health disparities; and (5) creates innovative initiatives aimed at increasing underrepresented minority investigators' access to NIH funding opportunities.

Division of Research (NE2, formerly HNE2). (1) Advises the Center Director on matters relating to minority health disparities research and research on other health disparities, including enhancing the participation of underrepresented minorities in research; (2) advises the Center Director during the consultative process of establishing NIH-wide goals for minority health disparities research, research on other health disparities, research and training, and on the development of the trans-NIH health disparities strategic plan; (3) provides leadership in implementing the trans-NIH health disparities strategic plan to improve the effectiveness of all NIH programs aimed at increasing NIH-supported research on diseases and conditions that disproportionately affect racial and ethnic minorities and other “health disparity groups,”; and (4) creates initiatives to enhance inclusion as well as targeted minority health disparities research and research on other health disparities.

Division of Community-Based Research and Outreach (NE3, formerly HNE3). (1) Develops and implements partnering initiatives to promote cooperation among Federal agencies, State, local, tribal, and regional public health agencies, and private entities in minority health disparities research and research on other health disparities as required by the Minority Health and Health Disparities Research and Education Act of 2000; (2) develops and implements a community-based research program for the National Institutes of Health with a focus on disease prevention, implementation of health messages in relevant racial and ethnic minority and disadvantaged communities, and elucidating barriers to effective health care, etc; and (3) coordinates with appropriate DHHS organizations and other Federal entities on programs of relevance to the mission of the Center.

Division of Scientific Planning and Policy Analysis (NE4, formerly HNE4). (1) Advises the Center Director regarding the analysis and evaluation of Center-supported programs, as requested; (2) represents the Center Director, as requested, on the trans-NIH Coordinating Committee during the consultative process of identifying annual trans-NIH priorities in regard to minority health disparities research, research training and capacity building, and research on other health disparities, including the allocation of resources in support of identified priorities; (3) provides program support for trans-NIH conferences and/or other conferences and workshops of relevance to the mission of the Center; (4) develops major policy and program recommendations, as requested by the Director, NIH, based on an evaluation of the status of support and accomplishments of NCMHD-supported programs; (5) conducts the Center's legislative liaison activities; and (6) serves as the clearinghouse and focal point for interpreting the goals and results of Center-supported research programs and projects for disseminating information to Congress and the Executive Branch.

Office of Scientific and Strategic Planning (NE42, formerly HNE42). (1) Coordinates, as requested, with the Center's Director on the development of a trans-NIH health disparities strategic plan; (2) assists and advises the Director in preparation for Congressional testimony and hearings and in the development of justifications for resource appropriations; (3) develops annual reports reflecting the status of trans-NIH implementation of initiatives, including executive orders, related to minority health disparities research and research on other health disparities, including those designed to enhance research and training capacity at minority and minority-serving institutions; and (4) conducts the Center's Freedom of Information and Privacy Act activities.

Office of Program Analysis and Data Management (NE43, formerly HNE43). (1) Coordinates, as required, with the Office of Scientific Planning, NCMHD, on the development of annual reports reflecting the status of trans-NIH implementation of initiatives, including executive orders, related to minority health disparities research and research on other health disparities, including those designed to enhance research and training capacity at minority and minority-serving institutions; (2) represents the Center, as requested, in the development, implementation, and monitoring of a trans-NIH coding system for identifying “targeted” and “inclusion” research and training initiatives as it relates to “health disparity populations” as well as identifying infrastructure and capacity building awards made to minority and minority-serving institutions; (3) collects and maintains data on trans-NIH programs and activities aimed at reducing and/or eliminating health disparities; (4) provides oversight for the development of the Health Disparities Information (HDI) System, a database for identifying and tracking all NIH-supported minority health disparities research, research on other health disparities, research training, and construction projects data; (5) acquires data and performs analyses for use in NCMHD planning and development; and (6) coordinates the presentation of the Center's plans and reports.

Delegations of Authority Statement: All delegations and redelegations of authority to offices and employees of NIH that were in effect immediately prior to the effective date of this reorganization and are consistent with this reorganization shall continue in effect, pending further redelegation.

Dated: January 16, 2001.
Donna E. Shalala,
Secretary, Department of Health and Human Services.

[FR Doc. 01-1808 Filed 1-19-01; 8:45 am]

BILLING CODE 4140-01-M